FEDERAL COMMUNICATIONS COMMISSION

47 CFR Parts 73 and 74

[MM Docket No. 95-31; FCC 02-192]

Reexamination of Comparative Standards for Noncommercial Educational Applicants

AGENCY: Federal Communications Commission.

ACTION: Final rule; denial of petitions for further reconsideration.

SUMMARY: In this document the Commission denies petitions for further reconsideration of the rules and procedures used to compare reserved channel noncommercial educational (“NCE”) broadcast applicants. The Commission rejects suggestions that it adopt relatively small alterations to, or exemptions from, the current standards, finding that such changes are unwarranted. The effect of this document is to affirm the standards for comparing mutually exclusive NCE applicants on reserved channels.

FOR FURTHER INFORMATION CONTACT: Irene Bleiweiss, Media Bureau, (202) 418-2700, Internet address: ibleiwei@fcc.gov.

SUPPLEMENTARY INFORMATION: This is a synopsis of a Memorandum Opinion and Second Order on Reconsideration adopted on June 27, 2002 and released on July 5, 2002. The Memorandum Opinion and Second Order is also available during normal business hours in the FCC Reference Center (Room CY-A257), 445 12th Street, SW., Washington, DC, and also may be purchased from the Commission's copy contractor, Qualex International, 445 12th Street, SW., Washington, DC 20554, Room CY-B402. It also appears on the internet at www.fcc.gov/mb in the headlines section.

Synopsis

In February 2000 and April 2001 the Commission adopted new procedures for comparing mutually exclusive applications to construct noncommercial educational broadcast stations on channels reserved for such use. For FM and FM translator applications the procedures begin with a preliminary analysis of fair distribution of service (FM) or fill-in service (FM translator). If the preliminary analysis is not determinative, the applicants are compared using a point system, which selects the applicant receiving the highest score. The point system also is used to compare applicants for noncommercial educational television stations. The reserved channel selection rules are published at 47 CFR 73.7000 through 47 CFR 73.7005. The Memorandum Opinion and Second Order denies petitions for further reconsideration, leaving unchanged the reserved channel selection rules, related rules and procedures announced earlier in this proceeding. Specifically, the Commission declined to adopt a suggestion to count, in the reserved channel fair distribution of service analysis, certain longstanding NCE stations operating on nonreserved channels. Also unchanged is use of a June 4, 2001 “look back” date for all pending applicants in closed groups to establish their non-technical qualifications for the point system. The Commission rejected a suggestion that, without a change in the look back date, older organizations might qualify for points as “established local applicants” even if the organization existed only on paper. It has never been the Commission's intent to award such points to organizations engaged in virtually no activities in the community of interest. The Commission also affirmed its requirement that the organization itself, not only its governing board, must be local for two years to be considered “established.” Finally, the Commission declined to modify its rules concerning the applicability of attribution standards in NCE contexts.

Procedural Matters

This Memorandum Opinion and Second Order on Reconsideration promulgates no additional final rules, and we received no petitions for reconsideration of the Final Regulatory Flexibility Certification. Therefore, no additional Regulatory Flexibility Analysis is required by the Regulatory Flexibility Act, 5 U.S.C. 601 et seq. The previous final certification made in this proceeding remains unchanged. The actions taken in this Memorandum Opinion and Second Order on Reconsideration have been analyzed with respect to the Paperwork Reduction Act of 1995, and found to impose no new or modified reporting and recordkeeping requirements or burdens on the public.

Federal Communications Commission.
Marlene H. Dortch,
Secretary.

[FR Doc. 02-19181 Filed 7-29-02; 8:45 am]

BILLING CODE 6712-01-P